NUCLEAR WASTE TECHNICAL REVIEW BOARD

Board Meeting

September 10-12, 2001—Las Vegas, Nevada: The Nuclear Waste Technical Review Board will hold a meeting to discuss issues related to the characterization of a potential repository site at Yucca Mountain, Nevada. A program overview and status reports on site characterization and evaluation will be presented by the U.S. Department of Energy. Other topics on the agenda include uncertainty analyses, waste package materials testing, performance assessment, consequences of igneous intrusion, and repository development plans.

Pursuant to its authority under section 5051 of Public Law 100-203, Nuclear Waste Policy Amendments Act of 1987, the Nuclear Waste Technical Review Board will meet in Las Vegas, Nevada, from Monday, September 10, to Wednesday, September 12, 2001, to discuss the status of U.S. Department of Energy (DOE) efforts to characterize a site at Yucca Mountain, Nevada, as the possible location of a permanent repository for spent nuclear fuel and high-level radioactive waste. At the two-and-a-half-day meeting, the DOE and representatives of the Nuclear Regulatory Commission, the Environmental Protection Agency, the State of Nevada, and Nye County, Nevada, will present updates on important issues related to the technical and scientific evaluation of the Yucca Mountain site. The meeting is open to the public, and several opportunities for public comment will be provided.

The Board meeting will be held at the Crowne Plaza Hotel, 4255 South Paradise Road, Las Vegas, Nevada 89109. The telephone number is (702) 369-4400; the fax number is (702) 369-3770. The meeting sessions will start at 8:00 a.m. each day.

The Monday session will begin with a general overview of the DOE program and the Yucca Mountain project, including a DOE perspective on a potential site recommendation and a DOE presentation on long-range decision processes. Additional topics to be discussed on Monday include analyses of uncertainty and activities related to testing waste package materials. The DOE also will discuss its comparison of higher- and lower-temperature operating modes for a potential Yucca Mountain repository. Updates on peer reviews being conducted by the DOE on the biosphere and on performance assessment will complete Monday's agenda.

Tuesday's agenda includes discussions of standards and regulations, the DOE's plans for addressing key technical issues, and a summary of the DOE's preliminary evaluations of site suitability. The DOE will present an update on the science program and a summary of the Supplementary Science and Performance Analyses report. Representatives of the Nye County drilling program will discuss the status of work undertaken by that program. The day will end with a presentation on structural controls on flow at the site by a contractor for the State of Nevada.

The half-day session on Wednesday will include discussions of repository development plans and of the consequences of igneous activity.

Opportunities for public comment will be provided before adjournment on all 3 days. Those wanting to speak during the public comment periods are encouraged to sign the “Public Comment Register” at the check-in table. Additional comment periods will be provided before lunch on Monday and Tuesday for anyone unable to remain at the meeting until the evening comment periods. A time limit may have to be set on individual remarks, but written comments of any length may be submitted for the record. Interested parties also will have the opportunity to submit questions in writing to the Board. As time permits, the questions will be read during the meeting sessions or during the public comment periods.

A detailed agenda will be available the week before the meeting. Copies of the agenda can be requested by telephone or obtained from the Board's Web site at www.nwtrb.gov. Beginning on October 8, 2001, transcripts of the meeting will be available on the Board's Web site, via e-mail, on computer disk, and on a library-loan basis in paper format from Davonya Barnes of the Board staff.

A block of rooms has been reserved until August 18 at the Crowne Plaza Hotel. When making a reservation, please state that you will be attending the Nuclear Waste Technical Review Board meeting. For more information, contact the NWTRB, Karyn Severson, External Affairs; 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: August 3, 2001.
William D. Barnard,
Executive Director, Nuclear Waste Technical Review Board.

[FR Doc. 01-19924 Filed 8-08-01; 8:45 am]

BILLING CODE 6820-AM-M